DEPARTMENT OF THE INTERIOR

National Park Service

National Register of Historic Places; Notification of Pending Nominations

Nominations for the following properties being considered for listing in the National Register were received by the national park Service for February 9, 2002. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC 20002; or by fax 202-343-1836. Written or faxed comments should be submitted by March 11, 2002.

Carol D. Shull,
Keeper of the National Register Of Historic Places.

Connecticut

Fairfield County

Gores, Landis, House, 192 Cross Ridge Rd., New Canaan, 02000189.

Georgia

Pickens County

Cagle House, GA 108, approx. 1½ mi. W of GA 5/515, Tate, 02000191.

Seminole County

Donalsonville Historic District, Roughly bounded by the Seaboard RR line, W. Thirt St., and Morris and S. Tennille Aves., Donalsonville, 02000190.

Indiana

Adams County

Geneva Downtown Commercial Historic District, 144-455 E. Line St., Geneva, 02000196.

Bartholomew County

Newsom—Marr Farm, 4950 S 150 D, Columbus, 02000195.

Carroll County

Wabash and Erie Canal Culvert #100, Towpath Rd. over Burnett's Creek, Lockport, 02000194.

Floyd County

Division Street School, 1803 Conservative St., New Albany, 02000193.

Franklin County

Stockheughter Covered Bridge, 27046 Enochsburg Rd., Batesville, 02000198.

Madison County

Chesterfield Spiritualist Camp District, 200-300 blks. of Eastern, Parkview, Western Drs., Chesterfield, 02000192.

Owen County

Secrest—Wampler House, 1816 Concord R., Gosport, 02000199.

Pulaski County

Vurpillat's Opera House, Jct. of Market and Main Sts., Winamac, 02000201.

St. Joseph County

Norman Heights Historic District, Roughly 2300-2900 N. Main, 2300-2800 Normandy, & 100-200 blks. E. Ardennes, Palau, Bastogne, Leyte, Saint Lo & Guam, Mishawaka, 02000203.

Tippecanoe County

Alpha Tau Omega Fraternity House, 314 Russell St., West Lafayette, 02000197.

Cairo Skywatch Tower, Cty. Rd. 850 N at Cty. Rd. 100 W, Cairo, 02000202.

Vigo County

Linton Township High School and Community Building, (Indiana's Public Common and High Schools MPS), 13041 Pimento Circle, Pimento, 02000200.

Kansas

Crawford County

Whitesitt-Shirk Historic District, 116 E. Lindburg and 120 E. Lindburg, Pittsburg, 02000204.

Michigan

Van Buren County

Marshall's Store, 102 E. St. Joseph St., Lawrence, 02000205.

Mississippi

Hinds County

Naval and Marine Corps Reserve Center, 1815 Jefferson St., Jackson, 02000209.

Holmes County

Acona Church, Cemetery, and School, MS 17, Lexington, 02000210.

Issaquena County

Grace Archeologicl Site, Address Restricted, Grace, 02000206.

Noxubee County

Macon Historic District, Roughly bounded by Adams, Pearl, West, and Wayne Sts., Macon 02000207.

Pike County

Enochs, Phillip Henry, House, 1001 Dogwood Dr. Fernwood, 02000208.

Missouri

Greene County

West Walnut Street Commercial Historic District, (Springfield, Missouri MPS (Additional Documentation)), Roughly 400-300 blks. of W. Walnut St., 300-400 blks. of S. Campbell Ave., Springfield, 0200211.

Wayne County

Fort Benton, 3.5 mi. S of jct. of MO 67 and MO 34, Patterson, 02000212.

Montana

Cascade County

Tower Rock, 8 mi. S of Cascade at I-15 Interchange 247, Cascade, 02000213.

Yellowstone County

Billings West Side School, 415 Broadwater Ave., Billings, 02000214.

New Jersey

Cape May Country

Wiley, Dr. John, House, 2 N. Main St., Cape May Court House, 02000217.

Middlesex County

Livingston Homestead, 81 Harrison Ave., Highland Park, 02000215.

Warren County

Richey, John, House, 6 Schetzer Ln., Franklin, 02000216.

Ohio

Allen County

Lima Stadium, 100 S. Calument Ave. and E. Market St., Lima, 02000219.

Hamilton County

Weston, John Henry, House, 1321 Michigan Ave., Cincinnati, 02000218.

Warren County

Waynesville Main Street Historic District, Main St., Waynesville, 02000220.

Oklahoma

Creek County

Frank, John, House, 1300 Luker Ln., Sapulpa, 02000221.

Pennsylvania

Bucks County

Atkinson Road Bridge, Atkinson Rd. and Pidcock's Creek, Solebury Twp, 02000222.

Buckmanville Historic District, Street Rd. bet. Windy Bush and Buckmanville Rds., Upper Makefield, 02000224.

Ivyland Historic District, Bouned by Jacksonbille Rd., Wilson, Greeley, and Chase Aves., Ivyland, 02000225.

Chester County

Brinton-King Farmstead, 1301 Brinton's Bridge Rd., 162 Baltimore Pike, Pennsbury, 02000230.

Franklin County

Harbaugh's Reformed Church, 14301 and 14269 Harbaugh Church Rd., Washington, 02000228.

Montgomery County

Cairnwood, 3028 Huntington Pike, Bryn Athyn, 02000223.

Curtis Aboretum, 1250 W. Church Rd., Cheltenham, 02000229.

Philadelphia County

Bell Telephone Exchange Building, 8-12 N. Preston St., Philadelphia, 02000227.

Washington County

Ross, Frank L., Farm, PA 519, 0.3 mi. N of US 40, North Bethlehem, 02000226.

Rhode Island

Kent County

Read School, 1670 Flat River Rd., Conventry, 02000231.

Tennessee

Davidson County

Nashville Financial Historic District, Third Ave., North and Union St., Nashville, 02000232.

Fayette County

Oakland Presbyterian Church, 14780 TN S, Oakland, 02000235.

Madison County

Mt. Olivet Cemetery, E. Forest Ave., Jackson, 02000237.

Roane County

Molyneux Chevrolet Company—Rockwood Fire Department Building, 104 N. Chamberlain St., Rockwood, 02000234.

Shelby County

Elmwood Cemetery, 824 Dudley St., Memphis, 02000233.

Gotten, Nicholas, House, 2969 Court St., Bartlett, 02000236.

Washington

Benton County

Benton City—Kiona Bridge, (Bridges and Tunnels Built in Washington State, 1951-1960 MPS), WA 225 over Yakima R, Benton City, 02000240.

Pioneer Memorial Bridge—Blue Bridge, (Bridges and Tunnels Built in Washington State, 1951-1960 MPS), WA 395 over Columbia R, Pasco, 02000241.

Chelan County

Wenatchee Avenue Southbound Bridge, (Bridges and Tunnels Built in Washington State, 1951-1960 MPS), WA 285 at Wenatchee R, Wenatchee, 02000239.

Grays Harbor County

Chehalis River Bridge, (Bridges and Tunnels Built in Washington State, 1951-1960 MPS), WA 101 over Chehalis, Aberdeen, 02000243.

Jefferson County

Portage Canal Bridge, (Bridges and Tunnels Built in Washington State, 1951-1960 MPS), WA 116 over Portage Canal, Hadlock, 02000244.

King County

Adair, William and Estella, Farm, (Dairy Farm Properties of Snoqualmie River Valley, Washington MPS), 27929 NE 100th St., Carnation, 02000249.

Allen, Horatio and Laura, Farm, (Dairy Farm Properites and Snoqualmie River Valley, Washington MPS), 28704 NE Cherry Valley Rd., Duvall, 02000250.

Hjertoos, Andrew and Bergette, Farm, (Dairy Farm Properties of Snoqualmie River Valley, Washington (MPS), 31523 NE 40th, Carnation, 02000248.

Kitsap County

Port Washington Narrows Bridge, (Bridges and Tunnels Built in Washington State, 1951-1960 MPS), WA 303 over Washington Narrows, Bremerton, 02000258.

Klickitat County

Klickitat River Bridge, (Bridges and Tunnels Built in Washington State, 1951-1960 MPS), WA 142 over Klickitat R., Lyle, 02000242.

Pierce County

Albers Brothers Mill, 1821 Dock St., Tacoma, 02000247.

Snohomish County

Snohomish River Bridge, (Bridges and Tunnels Built in Washington State, 1951-1960 MPS), WA 529 over Snohomish R., Washington 02000245.

Steamboat Slough Bridge, (Bridge and Tunnels Built in Washington State, 1951-1960 MPS), WA 529 over Steamboat Slough. Marysville, 02000246.

Thurston County

Erickson, Jonas, and Maria Lovisa, Farmstead, (Agriculture in Thurston County MPS), 13121 Independence Rd., Rochester, 02000251.

Whatcom County

Gorge Creek Bridge, (Bridge and Tunnels Built in Washington State, 1951-1960 MPS), WA 20 over Gorge Creek, Newhalem, 02000238.

West Virginia

Kanawha County

Smith-Giltinan House, 1223 Virginia St., E, Charleston, 02000253.

Lewis County

Upper Gladys School, Cty Rd, 52-1.9 mi. N of McCord Run Rd., Crawford, 02000252.

Marion County

Fairmont Senior High School, 1 Loop Park, Fairmont, 02000254.

Pocahontas County

Beard, Richard. House, Off Cty. Rd. 31 on Kyle Beard Rd., Hillsboro, 02000255.

Wisconsin

Crawford County

Crow Hollow Site, Address Restricted, Petersburg, 02000256.

Wyoming

Park County

Mammoth Hot Springs Historic District, North Entrance Rd. and Mammoth-Norris Rd., Yellowstone National Park, 02000257.

A request for REMOVAL has been made for the following resource:

Tennessee

Davidson County

Shute-Turner House, 4112 Brandywine Point Blvd., Nashville, 97001138.

[FR Doc. 02-4325 Filed 2-21-02; 8:45 am]

BILLING CODE 4310-70-M